NUCLEAR REGULATORY COMMISSION

Atomic Safety and Licensing Board

[Docket No. 50-423-LA-3; ASLBP No. 00-771-01-LA]

Northeast Nuclear Energy Company (Millstone Nuclear Power Station, Unit No. 3; Facility Operating License NPF-49); Notice of Hearing

February 9, 2000.

This proceeding involves the proposed increase in capacity (through the addition of high-density storage racks) of the spent fuel storage pool of the Millstone Nuclear Power Station, Unit No. 3, a pressurized water reactor located in New London County, Connecticut. In response to a Notice of Opportunity for Hearing, published at 64 FR 48672 (September 7, 1999), Connecticut Citizens Against Millstone (CCAM) and Long Island Citizens Against Millstone (CAM) submitted a timely request for a hearing. On October 19, 1999, an Atomic Safety and Licensing Board, consisting of Dr. Richard F. Cole, Dr. Charles N. Kelber, and Charles Bechhoefer, who serves as Chairman, was established to preside over this proceeding. 64 FR 57485 (October 25, 1999).

Notice is hereby given that, following the holding of a prehearing conference in New London, Connecticut, the Atomic Safety and Licensing Board has, by Prehearing Conference Order dated February 9, 2000, LBP-00-02, granted the request for a hearing/petition to intervene submitted by CCAM and CAM. Parties to this proceeding are the Licensee, Northeast Nuclear Energy Company (NNEC); CCAM; CAM; and the Staff of the Nuclear Regulatory Commission.

This proceeding will be conducted either under the Commission's hearing procedures in 10 CFR part 2, subpart G or, if requested by any party by February 22, 2000, under the Commission's hybrid hearing procedures set forth in 10 CFR part 2, subpart K.

During the course of this proceeding, the Atomic Safety and Licensing Board, pursuant to 10 CFR 2.715(a), will entertain limited appearance statements from any member of the public who is not a party to the proceeding, for the purpose of stating his or her views on the issues involved in this proceeding. Although these statements are not evidence and do not become part of the decisional record, they may assist the Atomic Safety and Licensing Board and the parties in their consideration of matters at issue in this proceeding. Limited appearance statements should be made in writing. If the Atomic Safety and Licensing Board conducts an oral argument or in-person prehearing conference or evidentiary hearing, the Board may at its discretion hear oral statements, at a time and location yet to be determined. Written statements, and requests to make oral statements, should be submitted to the Office of the Secretary, Rulemaking and Adjudications Staff, U.S. Nuclear Regulatory Commission, Washington, D.C. 20555. A copy of such statement or request should also be served on the Chairman of the Atomic Safety and Licensing Board, T3 F23, U.S. Nuclear Regulatory Commission, Washington, D.C. 20555, or CXB2@nrc.gov.

Documents related to this proceeding, issued prior to December 1, 1999, are available in print form for public inspection at the Commission's Public Document Room (PDR), 2120 L St. NW, Washington, D.C. Documents issued subsequent to November 1, 1999 are available electronically through the Agencywide Documents Access and Management System (ADAMS), with access to the public through NRC's Internet Web site (Public Electronic Reading Room Link, (http:@//www.nrc.gov/NRC/ADAMS/index.html). The PDR and the majority of public libraries have terminals for public access to the Internet.

Rockville, Maryland, February 9, 2000.
For the Atomic Safety and Licensing Board.
Charles Bechhoefer,
Chairman, Administrative Judge.

[FR Doc. 00-3515 Filed 2-14-00; 8:45 am]

BILLING CODE 7590-01-P